DEPARTMENT OF TRANSPORTATION

Federal Aviation Administration

[Summary Notice No. PE-2003-09]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Mike Brown, Office of Rulemaking (ARM-1), Federal Aviation Administration, 800 Independence Avenue, SW., Washington, DC 20591. Tel. (202) 267-7653.

This notice is published pursuant to 14 CFR 11.85 and 11.91.

Issued in Washington, DC, on March 6, 2003.
Richard D. McCurdy,
Acting Assistant Chief Counsel for Regulations.

Dispositions of Petitions

Docket No.: FAA-2002-13791

Petitioner: Office of the Sheriff, Lee County Florida.

Section of 14 CFR Affected: 14 CFR 45.29(b)(1).

Description of Relief Sought/Disposition: To allow the Lee County Sheriff's Office to retain the three-inch registration markings on its Maule M-5 aircraft once it is repainted.

Denied, 2/21/2003, Exemption No. 7982.

[FR Doc. 03-5925 Filed 3-11-03; 8:45 am]

BILLING CODE 4910-13-U